DEPARTMENT OF DEFENSE

Office of the Secretary

[Docket ID: DoD-2021-OS-0053]

Submission for OMB Review; Comment Request

AGENCY: Office of the Under Secretary of Defense for Personnel and Readiness, Department of Defense (DoD).

ACTION: 30-Day information collection notice.

SUMMARY: The DoD has submitted to OMB for clearance the following proposal for collection of information under the provisions of the Paperwork Reduction Act.

DATES: Consideration will be given to all comments received by October 27, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION: Title; Associated Form; and OMB Number: QuickCompass of Sexual Assault Prevention and Response Personnel (QSAPR), OMB Control Number 0704-0603.

Type of Request: Extension.

Number of Respondents: 5,000.

Responses per Respondent: 1.

Annual Responses: 5,000.

Average Burden per Response: 20 minutes.

Annual Burden Hours: 1,667 hours.

Needs and Uses: The QuickCompass of Sexual Assault Prevention and Response Personnel (QSAPR) assesses perceived professional or other reprisal or retaliation; access to sufficient physical and mental health services as a result of the nature of their work; access to installation and unit commanders; access to victims and alleged offender's immediate commander; responsiveness of commanders to Sexual Assault Response Coordinators (SARCs); support and services provided to sexual assault victims; understanding of others of the process and their willingness to assist; adequacy of training received by SARCs and Sexual Assault Prevention and Response (SAPR) VAs to effectively perform their duties; and other factors affecting the ability of SARCs and SAPR VAs to perform their duties. In addition, the results of the survey will assess progress, identify shortfalls, and revise policies and programs as needed. The FY21 NDAA requires that not later than June 30, 2021 the Secretary of Defense (SECDEF) survey SARCs and SAPR VAs on their ability to perform duties. SECDEF is required to submit a report of the survey results and actions to be taken as a result of the survey to the Senate and House Committees on Armed Services. In order to be able to meet reporting requirements for DoD leadership, the Military Services, and Congress, the survey needs to be completed by May 2021 to be able to present results to leadership by the end of 2021. That will also allow the results to be shared with the Department and Congress in the DoD SAPRO Annual Report as they have been in previous cycles. Data will be aggregated and reported triennially in perpetuity. Ultimately, the study will provide a report to Congress and all of the data, programs, and computational details necessary for replication and peer review.

Affected Public: Individuals or households.

Frequency: Every 3 years.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 21, 2021.
Aaron T. Siegel,
Alternate OSD Federal Register Liaison Officer, Department of Defense.

[FR Doc. 2021-20941 Filed 9-24-21; 8:45 am]

BILLING CODE 5001-06-P